DEPARTMENT OF COMMERCE

National Oceanic and Atmospheric Administration

[XRIN: 0648-XA55]

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council), its Research Set Aside (RSA) Committee, its Ecosystems Committee, its Law Enforcement/Vessel Safety Committee, its Squid, Mackerel, and Butterfish Committee, its Executive Committee, and its Bycatch/Limited Access Privilege Program Committee will hold public meetings. Prior to the Council's meeting there will be a meeting of the Joint Council New England and Mid-Atlantic Councils Standardized Bycatch Reporting Methodology (SBRM) Committee.

DATES: The meetings will be held on Monday, June 11, 2007 through Thursday, June 14, 2007. See SUPPLEMENTARY INFORMATION for specific dates and times.

ADDRESSES: These meetings will be held at the Embassy Suites, 1700 Coliseum Drive, Hampton, VA 23666; telephone: (757) 827-8200.

Council address: Mid-Atlantic Fishery Management Council, 300 S. New Street, Dover, DE 19904; telephone: (302) 674-2331.

FOR FURTHER INFORMATION CONTACT: Daniel T. Furlong, Executive Director, Mid-Atlantic Fishery Management Council; telephone: (302) 674-2331, ext. 19.

SUPPLEMENTARY INFORMATION:

Monday, June 11, 2007

2 p.m. until 5 p.m., the Joint Council SBRM Committee will meet.

Tuesday, June 12, 2007

9 a.m. until 12 noon, the RSA Committee with NMFS Cooperative Research Staff will meet.

10 a.m. until 11 a.m., the Ecosystems Committee will meet concurrently with the RSA Committee.

11 a.m. until 12 noon, the Law Enforcement/Vessel Safety Committee will also meet concurrently with the RSA Committee.

1 p.m. until 4 p.m., the Squid, Mackerel, and Butterfish Committee will meet with its advisors.

4 p.m. until 5:30 p.m., the Executive Committee will meet.

Wednesday, June 13, 2007

8 a.m. until 9 a.m., the Bycatch/Limited Access Privilege Program (LAPP) Committee will meet.

9 a.m. until 9:30 a.m., the Council will convene and receive a presentation on the Coral Reef Conservation Amendments Act of 2007.

9:30 a.m. until 12 noon, the Council will conduct its regular Council business session.

1 p.m. until 2:30 p.m., the Council will discuss and develop 2008, 2009, and 2010 quota specifications for the surfclam and ocean quahog fisheries.

2:30 p.m. until 5 p.m., the Council will discuss and develop 2008 quota specifications for the Atlantic mackerel, squid and butterfish fisheries.

Thursday, June 14, 2007

8 a.m., the Council will convene to receive a presentation by the NMFS on the Status of its Recreational Data Collection Initiative.

9 a.m. until 12 noon, the Council will discuss Amendment 1 to the Tilefish Fishery Management Plan (FMP).

1 p.m. until 2:30 p.m., the Council will review and take action on the Omnibus Amendment for Standardized Bycatch Reporting Methodology.

2:30 p.m. until 3:30 p.m., the Council will review and consider actions taken by the Atlantic States Marine Fisheries Commission (ASMFC) regarding Amendment 15 to the Summer Flounder, Scup, and Black Sea Bass FMP.

3:30 p.m. until adjournment, the Council will receive and discuss committee reports, and address any continuing and/or new business.

Agenda items for the Council's committees and the Council itself are: The Joint Council SBRM Committee will review revisions to the SBRM Amendment including the environmental assessment, select preferred alternatives, and develop the Council's final position for Secretarial submission. The RSA Committee will meet to review the Mid-Atlantic RSA program performance and discuss future directions; discuss ways to improve program effectiveness, dissemination of results, and coordination with other cooperative research efforts; initiate discussion of research priorities for the 2009 program year; and, develop comments as appropriate for Council consideration. The Ecosystems Committee will review “Taking the Bait” ... A Blueprint for Councils to Protect the Ocean Forage Base. The Law Enforcement/Vessel Safety Committee will address National Standard 10 in context of the recent Congressional Hearing on commercial fishing vessel safety, and review the Council's Fisheries Achievement Award process and timeline for 2007. The Squid, Mackerel, and Butterfish Committee will meet with its Advisors to review the Monitoring Committee's recommendations for 2008 quota levels and associated management measures and develop 2008 quota specifications and associated management measures for Council consideration and action; and, receive status updates on Amendments 9 and 10. The Executive Committee will review the Council Coordination Committee (CCC) meeting results and action items including: budget outcome from CCC meeting and its impact on the Council's 2007 operations; Council member training/mentoring; and, status of NMFS Regulatory Streamlining Program efforts. The Executive Committee will also review the Northeast Regional Coordinating Council meeting agenda and actions; discuss the role of the Scientific and Statistical Committee; discuss practicability and applicability of an interactive web site for the Council; and, review Commercial Fishing Vessel Safety issues. The Bycatch/LAPP Committee will review and evaluate public comments on the proposed SBRM Amendment, discuss and develop a Council position regarding Secretarial submission of the proposed Amendment; and, receive an update on the LAPP. The Council will receive a presentation on the Coral Reef Ecosystem Conservation Amendments Act of 2007; this will be followed by the Council's regular business session. The Council will then review staff's recommendations for 2008, 2009, and 2010 surfclam and ocean quahog quota specifications and associated management measures, and then the Council will develop and adopt quota specifications and associated management measures for a multi-year surfclam and ocean quahog specification program. The Council will review the Atlantic Mackerel, Squid, and Butterfish Committee's recommendations for 2008 quota specifications and associated management measures, and will develop and adopt 2008 quota specifications and associated management measures for squid, mackerel, and butterfish. The Council will receive a presentation on the Status of NMFS' Recreational Data Collection Initiative. The Council will then review alternatives associated with various measures proposed in Amendment 1 to the Tilefish FMP, and select preferred alternatives for that Amendment, and then review and adopt the Public Hearing Document (PHD) and associated Draft Environmental Impact Statement (DEIS). The Council will review and take action on the Standardized Bycatch Reporting Methodology Omnibus Amendment for Secretarial submission. The Council will review and consider actions taken by the ASMFC regarding Amendment 15 to the Summer Flounder, Scup, and Black Sea Bass FMP. The Council will conclude its meeting by receiving various committee reports and by addressing any continuing and/or new business.

Although non-emergency issues not contained in this agenda may come before the Council for discussion, these issues may not be the subject of formal Council action during these meetings. Council action will be restricted to those issues specifically listed in this notice and any issues arising after publication of this notice that require emergency action under section 305(c) of the Magnuson-Stevens Act, provided the public has been notified of the Council's intent to take final actions to address such emergencies.

Special Accommodations

These meetings are physically accessible to people with disabilities. Requests for sign language interpretation or other auxiliary aids should be directed to M. Jan Bryan at (302) 674-2331 ext: 18 at least 5 days prior to the meeting date.

Dated: May 21, 2007.
Tracey L. Thompson,
Acting Director, Office of Sustainable Fisheries, National Marine Fisheries Service.

[FR Doc. E7-10010 Filed 5-23-07; 8:45 am]

BILLING CODE 3510-22-S